FEDERAL HOUSING FINANCE BOARD

[No. 2007-N-03]

Proposed Collection; Comment Request

AGENCY: Federal Housing Finance Board.

ACTION: Notice.

SUMMARY: In accordance with the requirements of the Paperwork Reduction Act of 1995, the Federal Housing Finance Board (Finance Board) is seeking public comments concerning the information collection known as “Capital Requirements for the Federal Home Loan Banks,” which has been assigned control 3069-0059 by the Office of Management and Budget (OMB). The Finance Board intends to submit the information collection to OMB for review and approval of a 3 year extension of the control number, which is due to expire on February 28, 2007.

DATES: Interested persons may submit comments on or before March 27, 2007.

Comments: Submit comments only once by any of the following methods:

E-mail: comments@fhfb.gov.

Fax: 202-408-2580.

Mail/Hand Delivery: Federal Housing Finance Board, 1625 Eye Street, NW., Washington DC 20006, ATTENTION: Public Comments.

Federal eRulemaking Portal: http://www.regulations.gov. Follow the instructions for submitting comments. If you submit your comment to the Federal eRulemaking Portal, please also send it by e-mail to the Finance Board at comments@fhfb.gov to ensure timely receipt by the agency.

Include the following information in the subject line of your submission: Federal Housing Finance Board. Proposed Collection; Comment Request: Capital Requirements for the Federal Home Loan Banks. 2007-N-03.

We will post all public comments we receive on this notice without change, including any personal information you provide, such as your name and address, on the Finance Board Web site at http://www.fhfb.gov/Default.aspx?Page=93&Top=93.

FOR FURTHER INFORMATION CONTACT: Jonathon F. Curtis, Senior Financial Analyst, Regulations & Research Division, Office of Supervision, by e-mail at curtisj@fhfb.gov, by telephone at 202-408-2866, or by regular mail at the Federal Housing Finance Board, 1625 Eye Street, NW., Washington DC 20006.

SUPPLEMENTARY INFORMATION:

A. Need For and Use of the Information Collection

Section 6 of the Federal Home Loan Bank Act establishes the capital structure for the Federal Home Loan Banks (Banks) and requires the Finance Board to issue regulations prescribing uniform capital standards applicable to each Bank. 12 U.S.C. 1426. To implement the statutory capital structure for the Banks, the Finance Board added parts 930, 931, 932, and 933 to its regulations. 12 CFR parts 930, 931, 932, and 933. Part 930 establishes definitions applicable to risk management and the capital regulations; part 931 concerns Bank capital stock; part 932 establishes Bank capital requirements; and part 933 sets forth the requirements for Bank capital structure plans. The implementing regulations also include conforming changes to parts 917, 925, and 956, which concern, respectively, the powers and responsibilities of Bank boards of directors and senior management, Bank members, and Bank investments. 12 CFR parts 917, 925, and 956.

The Banks use the information collection contained in the rules implementing section 6 to determine the amount of capital stock a member must purchase to maintain membership in and to obtain services from a Bank. More specifically, sections 931.3 and 933.2(a) of the Finance Board rules authorize a Bank to offer its members several options to satisfy required investments in capital stock as activity-based and/or membership stock purchase requirements. 12 CFR 931.3 and 933.2(a). The information collection is necessary to provide the Banks with the flexibility to meet the statutory and regulatory capital structure requirements while allowing Bank members to choose the option best suited to their business requirements.

The OMB control number for the information collection is 3069-0059, and it is due to expire on February 28, 2007. The likely respondents include Banks and Bank members.

B. Burden Estimate

While the number of member respondents has increased, the burden has decreased significantly because the Banks can access most of the data required by the information collection electronically from call reports the members already must file with their primary regulator. The estimate for the total annual hour burden for all member respondents is 35,100 hours. The estimate for the total annual cost burden is $1,509,300. These estimates are based on the following calculations:

The Finance Board estimates the total annual average number of member respondents for activity-based stock purchase requirements at 5,500, with 4 responses per member. The estimate for the average hours per response is 0.65 hours. The estimate for member respondents' annual hour burden related to activity-based stock purchase requirements is 14,300 hours (5,500 activity-based member respondents x 4 responses per member x 0.65 hours per response). The estimate for the annual cost burden is $614,900 (14,300 hours x $43 hourly rate).

The Finance Board estimates the total annual average number of member respondents for membership stock purchase requirements at 8,000, with 4 responses per member. The estimate for the average hours per response is 0.65 hours. The estimate for member respondents' annual hour burden related to membership stock purchase requirements is 20,800 hours (8,000 membership investment member respondents x 4 responses per member x 0.65 hours per response). The estimate for the annual cost burden is $894,400 (20,800 hours x $43 hourly rate).

C. Comment Request

The Finance Board requests written comments on the following: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology.

Dated: January 23, 2007.
By the Federal Housing Finance Board.
Neil R. Crowley,
Deputy General Counsel.

[FR Doc. E7-1267 Filed 1-25-07; 8:45 am]

BILLING CODE 6725-01-P